DEPARTMENT OF ENERGY

[Number DE-PS07-03ID14425]

Industrial Materials for the Future

AGENCY: Idaho Operations Office, DOE.

ACTION: Notice of availability of solicitation for awards of financial assistance.

SUMMARY: The U.S. Department of Energy (DOE), Idaho Operations Office (ID) is seeking applications for cost-shared research and development of materials or materials processing methods, in accordance with the Program Plan for the Industrial Materials for the Future (IMF). This will be a national effort to research, design, develop, engineer, and test new and improved materials to achieve improvements in energy efficiency, emissions and waste reduction, productivity, product quality, and global competitiveness.

DATES: The issuance date of Solicitation Number DE-PS07-03ID14425 was on December 9, 2002. The deadline for receipt of applications is February 27, 2003, at 3:00 p.m. MST.

ADDRESSES: The solicitation will be available in its full text on the Internet by going to the DOE's Industry Interactive Procurement System (IIPS) at the following URL address: http://e-center.doe.gov. This will provide the medium for disseminating solicitations and amendments to solicitations, receiving financial assistance applications and evaluating applications in a paperless environment. Completed applications are required to be submitted via IIPS. An IIPS “User Guide for Contractors” can be obtained on the IIPS Homepage and then click on the “Help” button. Questions regarding the operation of IIPS may be e-mailed to the IIPS Help Desk at IIPS_HelpDesk@e-center.doe.gov.

FOR FURTHER INFORMATION CONTACT: Wade Hillebrant, Contracting Officer, at hillebtw@id.doe.gov.

SUPPLEMENTARY INFORMATION: Information about the Office of Industrial Technologies Industrial Materials for the Future Program can be found at http://www.oit.doe.gov/imf/. The IOF industry-specific vision documents and technology roadmaps are available at http://www.oit.doe.gov/ under individual IOF program areas.

DOE anticipates making 1 to 6 cooperative agreements under this solicitation, subject to the availability of funds, with a maximum estimated DOE funding of $3 million total funds in the first year. A minimum 30% non-federal cost share for advanced research, and 50% non-federal cost share for validation and demonstration is required. For-profit, non-profit, state and local governments, Indian Tribes, and institutions of higher education may submit applications in response to this solicitation. Multi-partner collaborations between industry, university, and National Laboratory participants are encouraged. Single organization awards will not be considered. Industrial partners must be included, either as primary applicants or as cost sharing partners. The statutory authority for the program is the Federal Non-Nuclear Energy Research and Development Act of 1974 (Pub. L. 93-577). The Catalog of Federal Domestic Assistance (CFDA) Number for this program is 81.086.

Issued in Idaho Falls on December 9, 2002.
R. J. Hoyles,
Director, Procurement Services Division.

[FR Doc. 02-32380 Filed 12-23-02; 8:45 am]

BILLING CODE 6450-01-P